DEPARTMENT OF ENERGY

Environmental Management Site-Specific Advisory Board, Sandia

AGENCY: Department of Energy.

ACTION: Notice of open meeting.

SUMMARY: This notice announces the final meeting of the Environmental Management Site-Specific Advisory Board (EM SSAB), Kirtland Area Office-Sandia National Lab. The Federal Advisory Committee Act (Pub. L. 92-463, 86 Stat. 770) requires that public notice of these meetings be announced in the Federal Register.

DATES: Wednesday, September 20, 2000; 6:00 p.m.-9:00 p.m. (MST).

ADDRESSES: Sheraton Albuquerque Uptown Hotel, 2600 Louisiana Boulevard, NE., Albuquerque, NM 87110, (505) 881-0000.

FOR FURTHER INFORMATION CONTACT: Mike Zamorski, Acting Manager, Department of Energy, Kirtland Area Office, P.O. Box 5400, MS-0184, Albuquerque, NM 87185, Phone (505) 845-4094, Fax (505) 845-6867.

SUPPLEMENTARY INFORMATION: Purpose of the Board: The purpose of the Board is to make recommendations to DOE and its regulators in the areas of environmental restoration, waste management, and related activities.

Tentative Agenda:

6:00 pm Check in/Minutes/Agenda/Meeting Manager Report—Bob Long Process Announcements (i.e., survey sheets, etc.)

6:15 Public Comment Period

6:30 Consensus Process: Mixed Waste Landfill Recommendations

7:30 Break

7:45 Stewardship—JoAnne Ramponi

8:15 Science & Technology—Ted Truske

8:30 CAB Reflections—Mike Zamorski

8:45 CAB Reflection/Thank you—Task Group Leaders

8:55 Pack it and Wrap it up

9:00 End of meeting

Public Participation: The meeting is open to the public. Written statements may be filed with the Board either before or after the meeting. Individuals who wish to make oral statements pertaining to agenda items should contact Mike Zamorski at the address or telephone number listed above. Requests must be received at least 5 days prior to the meeting and reasonable provision will be made to include the presentation in the agenda. The Deputy Designated Federal Officer is empowered to conduct the meetng in a fashion that will facilitate the orderly conduct of business. Each individual wishing to make public comment will be provided a maximum of 5 minutes to present their comments.

Minutes: The minutes of this meeting will be available for public review and copying at the Freedom of Information Public Reading Room, 1E-190, Forrestal Building, 1000 Independence Avenue, SW, Washington, DC 20585 between 9:00 a.m. and 4:00 p.m., Monday-Friday, except Federal holidays. Minutes will also be available by writing or calling Mike Zamorski, Acting Manager, Department of Energy, Kirtland Area Office, P.O. Box 5400, MS-0184, Albuquerque, NM 87185, or by calling (505) 845-4094.

Issued at Washington, DC on August 30, 2000.
Rachel M. Samuel,
Deputy Advisory Committee Management Officer.

[FR Doc. 00-22793 Filed 9-5-00; 8:45 am]

BILLING CODE 6450-01-P